DEPARTMENT OF AGRICULTURE

Forest Service

Information Collection; Forest Products Customer Satisfaction Survey

AGENCY: Forest Service, Agriculture (USDA).

ACTION: Notice; request for comment.

SUMMARY: In accordance with the Paperwork Reduction Act of 1995, the Forest Service is seeking comments from all interested individuals and organizations on the new information collection, Forest Products Customer Satisfaction Survey.

DATES: Comments must be received in writing on or before October 19, 2021 to be assured of consideration. Comments received after that date will be considered to the extent practicable.

ADDRESSES: Comments concerning this notice should be addressed:

Email: ashley.warriner@usda.gov.

Mail: Ashley Warriner, Program Specialist, USDA Forest Service, Forest Management, 1400 Independence Avenue SW, Washington, DC 20250.

Please do not include in your comments information of a confidential nature, such as sensitive personal information or proprietary information. If you send an email comment, your email address will be automatically captured and included as part of the comment that is placed in the public docket and made available on the internet. Please note that responses to this public comment request containing any routine notice about confidentiality of the communication will be treated as public comments that may be made available to the public notwithstanding inclusion of the routine notice.

The public may request an electronic copy of the draft supporting statement and/or any comments received be sent via return email. Requests should be emailed to ashley.warriner@usda.gov.

FOR FURTHER INFORMATION CONTACT: Colleen O'Brien, Forest Management, telephone 559-920-6093, email colleen.obrien@usda.gov. Individuals who use telecommunication devices for the deaf (TDD) may call the Federal Relay Service (FRS) at 1-800-877-8339 twenty-four hours a day, every day of the year, including holidays.

SUPPLEMENTARY INFORMATION: Title: Forest Products Customer Satisfaction Survey.

OMB Number: 0596-NEW.

Expiration Date of Approval:

Type of Request: New information collection.

Abstract: The Forest Service will conduct a survey among external stakeholders to collect data on their perceptions, experience, and overall satisfaction with the agency's forest products program. For purposes of this survey, the “forest products program” includes timber sales, stewardship contracts, stewardship agreements, or other instruments through which the Forest Service contracts with an external actor for vegetation management or forest products removal projects. Specifically, the survey will collect data on project or sale-level factors that may cause a partner or customer to choose not to bid on a sale or project, as well as their perceptions of FS employee training, knowledge of timber markets and overall relationships and customer service. The survey is one element of the larger Forest Products Modernization (FPM) effort's monitoring strategy. FPM seeks to improve efficiency in how the agency manages forests, delivers forest products, and carries out timber sales to better meet current and future forest health and restoration goals. Through modernizing the forest products program, the Forest Service also seeks to improve relationships and the service we provide to timber purchasers, stewardship contractors and other partners. This survey seeks to assess the extent to which strategic investments guided by the FPM effort are contributing to the satisfaction of those who work alongside the agency to advance forest health goals and support local economies.

Affected Public: Targeted respondents include any external actor that bids on or participates in Forest Service contracts or agreements for removal of forest products from National Forests System lands. They may include private sector timber purchasers, non-governmental organizations that enter into stewardship contracts or agreements, State agency representatives, and Tribes that enter into contracts and/or perform restoration work on National Forest System lands.

Estimate of Burden per response: 10 minutes.

Estimated Annual Number of Respondents: 140.

Estimated Annual Number of Responses: 140.

Estimated Total Annual Burden on Respondents: 23 hours.

Comment is Invited: Comment is invited on: (1) Whether this collection of information is necessary for the stated purposes and proper performance of agency functions, including whether the information will have practical or scientific utility; (2) accuracy of the agency's information collection burden estimate, including validity of the methodology and assumptions used; (3) ways to enhance the quality, utility, and clarity of information to be collected; and (4) ways to minimize the information collection burden on respondents, including the use of automated, electronic, mechanical, or other technological collection techniques or other forms of information technology.

All comments received in response to this notice, including names and addresses when provided, will be a matter of public record. Comments will be summarized and included in the submission request toward Office of Management and Budget approval.

John G. Church,
Assistant Director, Forest & Rangeland Management and Vegetation Ecology, National Forest System.

[FR Doc. 2021-17910 Filed 8-19-21; 8:45 am]

BILLING CODE 3411-15-P